NATIONAL AERONAUTICS AND SPACE ADMINISTRATION

[Notice: 14-123]

NASA Advisory Council; Science Committee; Meeting Postponement

AGENCY: National Aeronautics and Space Administration.

ACTION: Notice of postponement of meeting.

SUMMARY: In accordance with the Federal Advisory Committee Act, Public Law 92-463, as amended, NASA announces a postponement of the previously announced meeting of the Science Committee of the NASA Advisory Council (NAC). The meeting was originally announced in the Federal Register on November 14, 2014. The meeting had been scheduled to be held December 1-3, 2014. The meeting is being postponed by NASA due to exceptional circumstances and schedule conflicts of the NASA top leadership. The latter's attendance is required during this period for the NASA Senior Management Council meeting and final countdown preparations for launch of the Orion Exploration Flight Test-1 (EFT-1) on December 4, 2014, at NASA Kennedy Space Center in Florida.

FOR FURTHER INFORMATION CONTACT: Ms. Ann Delo, Science Mission Directorate, NASA Headquarters, Washington, DC 20546, (202) 358-0750, or ann.b.delo@nasa.gov.

SUPPLEMENTARY INFORMATION: The meeting was originally announced as NASA Notice 14-115 in the Federal Register on Friday, November 14, 2014 at 79 FR 68304. The meeting had been scheduled to be held on Monday, December 1, 2014, 8 a.m.-5 p.m.; Tuesday, December 2, 2014, 8 a.m.-6 p.m.; and Wednesday, December 3, 2014, 8 a.m. to 12:30 p.m.; Local Time, at NASA Headquarters, 300 E Street SW., Washington, DC 20546.

Patricia D. Rausch,
Advisory Committee Management Officer, National Aeronautics and Space Administration.

[FR Doc. 2014-28059 Filed 11-25-14; 8:45 am]

BILLING CODE 7510-13-P